DEPARTMENT OF TRANSPORTATION

Federal Highway Administration

Environmental Impact Statement; Washoe County, NV

AGENCY: Federal Highway Administration (FHWA), DOT.

ACTION: Notice of intent.

SUMMARY: The FHWA is issuing this notice to advise the public that an Environmental Impact Statement (EIS) will be prepared for a proposed intersection improvement project in the City of Sparks, Washoe County, NV.

FOR FURTHER INFORMATION CONTACT: Mr. Abdelmoez A. Abdalla, Environmental Program Manager, Federal Highway Administration, 705 N. Plaza, Suite 220, Carson City, NV 89701, Telephone: (775) 687-1231; Mr. Daryl James, Chief, Environmental Service Division, Nevada Department of Transportation, 1263 S. Stewart Street, Carson City, Nevada 89712, Telephone: (775) 888-7686; or Mr. William Vann, Jr., Regional Transportation Commission, 1105 Terminal Way, Suite 108, Reno, Nevada 89502, Telephone: (775) 335-1877.

SUPPLEMENTARY INFORMATION: The FHWA, in cooperation with the Nevada Department of Transportation (NDOT) and the Regional Transportation Commission of Washoe County (RTC), will prepare an environmental impact statement (EIS) on a proposal to improve the Pyramid Way (SR 445) and McCarran Boulevard (SR 650) intersection in the City of Sparks, Washoe County, Nevada. The FHWA will serve as the Lead Federal Agency while the NDOT and the RTC will serve as Joint Lead Agencies. The new SAFETEA-LU environmental review process will be followed.

The Pyramid Way at McCarran Boulevard intersection serves the transportation needs of the communities in Washoe County and the City of Sparks. This intersection links commuters from unincorporated Washoe County and the City of Sparks to employment and service centers located within the Cities of Reno and Sparks. The current and projected traffic congestion and operational characteristics of this intersection necessitate improvement. Workshops with residents and businesses in the project area and regional commuters using the intersection will be held to solicit input on the project's purpose and need, range of alternatives to be considered, preferred alternative, methodologies, and level of details for the analysis of alternatives.

The purpose of the proposed project is to relieve congestion, enhance traffic operations of the intersection, improve safety, and accommodate the future increase in traffic volumes. Traffic is expected to increase by 58% by 2012, the planned opening year of the project. In the surrounding area, population is anticipated to increase 112% by 2012 while employment will increase over 400% in the same timeframe.

The EIS will consider various improvement alternatives as well as a no action alternative. Alternatives that have been examined include a Pyramid Way grade separation, an expanded at-grade intersection, and an eastbound McCarran Boulevard to northbound Pyramid Way direct connection. Other alternatives will be considered as part of the public workshops and environmental review process.

Letters describing the proposed action and soliciting comments will be sent to appropriate Federal, State, and local agencies, and to private organizations and citizens who have expressed or are known to have interest in this project. In addition to the workshops, project scoping meetings will be held in Sparks, Nevada in the Fall of 2007 with appropriate participating and cooperating agencies as well as the general public. In addition, public meetings will be held during the development of the project and a public hearing will be held for the draft EIS. Public notices will be given announcing the time and place of the public meetings and the hearing. The draft EIS will be available for public and agency review and comment prior to the public hearing.

To ensure that the full range of issues related to this proposed action are addressed and all significant issues identified, comments and suggestions are invited from all interested parties. Comments or questions concerning this proposed action and the EIS should be directed to the FHWA, NDOT, or RTC at the addresses provided above.

(Catalog of Federal Domestic Assistance Program Number 20.205, Highway Research, Planning and Construction. The regulations implementing Executive Order 12372 regarding intergovernmental consultation on Federal programs and activities apply to this program.)

Authority: 42 U.S.C. 4321 et seq., 49 CFR 1.48(d)(17), and 40 CFR 1501.7.

Issued on: August 28, 2007.
Susan Klekar,
Division Administrator, FHWA, Nevada Division.

[FR Doc. 07-4300 Filed 8-31-07; 8:45 am]

BILLING CODE 4910-22-M